OFFICE OF PERSONNEL MANAGEMENT

Submission for Reinstatement Generic Information Collection: 3206-0252 Program Services Evaluation Surveys and 3206-0253 Leadership Assessment Surveys

AGENCY: Office of Personnel Management.

ACTION: 60-Day notice and request for comments.

SUMMARY: The Office of Personnel Management (OPM) intends to submit to the Office of Management and Budget (OMB) a request for reinstatement of previously approved collections, Program Services Evaluation Surveys and Leadership Assessment Surveys, as Generic Collections. Approval of the Program Services Evaluation Surveys and the Leadership Assessment Surveys is necessary to collect information on Federal agency and program performance, climate, employee attitudes and leadership effectiveness, and to give OPM the ability to customize each Program Services Evaluation survey based on customer requirements.

DATES: Comments are encouraged and will be accepted until April 27, 2026.

ADDRESSES: You may submit comments using the Federal Rulemaking Portal at http://www.regulations.gov. Follow the instructions for submitting comments.

The general policy for comments and other submissions from members of the public is to make these submissions available for public viewing at http://www.regulations.gov as they are received without change, including any personal identifiers or contact information.

FOR FURTHER INFORMATION CONTACT: A copy of this ICR, with applicable supporting documentation, may be obtained by contacting Human Resources Strategy and Evaluation Solutions, Office of Personnel Management, 1900 E Street, Rm. 2469, NW, Washington, DC 20415, Attention: Renee Vincent, via phone at 202-606-8001, or via email to Organizational_Assessment@opm.gov.

SUPPLEMENTARY INFORMATION: As required by the Paperwork Reduction Act of 1995, 44 U.S.C. 3506(c)(2), OPM is soliciting comments for this collection. The Office of Management and Budget is particularly interested in comments that:

1. Evaluate whether the proposed collection of information is necessary for the proper performance of functions of the agency, including whether the information will have practical utility;

2. Evaluate the accuracy of the agency's estimate of the burden of the proposed collection of information, including the validity of the methodology and assumptions used;

3. Enhance the quality, utility, and clarity of the information to be collected; and

4. Minimize the burden of the collection of information on those who are to respond, including through the use of appropriate automated, electronic, mechanical, or other technological collection techniques or other forms of information technology, e.g., permitting electronic submissions of responses.

Background

OPM's Human Resources Strategy and Evaluation Solutions performs assessment and related consultation activities for Federal agencies on a reimbursable basis. The assessments are authorized by various statutes and regulations: 5 U.S.C. 4702 and 4703; Section 1128, Public Law 108-136 (5 U.S.C. 7101 note); 5 U.S.C. 1103(a)(5), 1104, 3301; E.O. 13197, 66 FR 7853 (Jan. 18, 2001).

This collection request includes surveys we currently use and plan to use during the next three years to measure agency performance, climate, employee attitudes, and leadership effectiveness. OMB Control No. 3206-0252 covers a broad range of surveys all focused on improving organizational performance. OMB Control No. 3206-0253 surveys focus on leadership characteristics. Non-Federal respondents will almost never receive more than one of these surveys. All of these surveys consist of Likert-type, mark-one, and mark-all-that-apply items, and may include a small number of open-ended comment items. The surveys included under OMB Control Nos. 3206-0252 and 3206-0253 are almost always administered electronically.

Analysis

Agency: Office of Personnel Management.

Title: Program Services Evaluation Surveys, Leadership Assessment Surveys.

OMB: 3206-0252 and 3206-0253.

Frequency: On occasion.

Affected Public: Government contractors and individuals.

Number of Respondents: For 3206-0252, approximately 4,080. For 3206-0253, approximately 8,150 annually.

Estimated Time per Respondent: For 3206-0252, 13 minutes. For 3206-0253, 24 minutes.

Total Burden Hours: For 3206-0252, 969 hours. For 3206-0253, 2,071 hours.

Note: Total burden is the sum of individual estimates.

Office of Personnel Management.
Alexys Stanley,
Federal Register Liaison.

[FR Doc. 2026-03695 Filed 2-23-26; 8:45 am]

BILLING CODE 6325-43-P